DEPARTMENT OF AGRICULTURE

Office of the Secretary

[Docket No. 2011-0001]

Privacy Act of 1974; System of Records

AGENCY: National Institute of Food and Agriculture, USDA.

ACTION: Notice of Revision of Privacy Act Systems of Records.

SUMMARY: Notice is hereby given that the United States Department of Agriculture (USDA) is revising two Privacy Act (PA) systems of records and deleting two PA systems of records maintained by the National Institute of Food and Agriculture (NIFA), formerly the Cooperative State Research, Education, and Extension Service (CSREES).

DATES: Submit comments on or before May 29, 2012. These systems will be effective May 29, 2012.

ADDRESSES: You may submit comments, identified by Docket No. 2011-0001 by one of the following methods: Federal eRulemaking Portal: http://www.regulations.gov. Follow the instructions for submitting comments. Email: stasia.hutchison@ars.usda.gov. Include the text “NIFA Privacy Act System of Records” in the subject line of the message. Fax: (202) 504-1647. Mail: Stasia Hutchison, Freedom of Information Act and Privacy Act Officer, Information Staff, Agricultural Research Service, Research, Education, and Economics, Department of Agriculture, Mail Stop 5128, 5601 Sunnyside Avenue, Beltsville, MD 20705-5128. Hand Delivery/Courier: Stasia Hutchison, Freedom of Information Act and Privacy Act Officer, Information Staff, Agricultural Research Service, Research, Education, and Economics, Department of Agriculture, George Washington Carver Center, Building 1, Room 2248, 5601 Sunnyside Avenue, Beltsville, MD 20705-5128. Instructions: All submissions received must include the agency name and docket number for this rulemaking. All comments received will be posted without change to http://www.regulations.gov, including any personal information provided. Docket: For access to the docket to read background documents or comments received, go to http://www.regulations.gov.

FOR FURTHER INFORMATION CONTACT: Stasia Hutchison, Freedom of Information Act and Privacy Act Officer, Information Staff, Agricultural Research Service, Research, Education, and Economics, Department of Agriculture, 5601 Sunnyside Avenue, STOP 5128, Beltsville, MD 20705-5128; Telephone (301) 504-1655; Facsimile (301) 504-1647; Email: stasia.hutchison@ars.usda.gov.

SUPPLEMENTARY INFORMATION:

I. Background

1. Two systems of records are being revised.

A. State Cooperative Extension Service Employees, USDA/NIFA-1. The State Cooperative Extension Service Employees System is utilized to prepare the annual salary analysis report that is used as a management tool for salary analysis purposes as well as historical purposes. Cooperative Extension Service (CES) employee records are permanently maintained in the CES Personnel Information System database of NIFA. This database is updated annually from data provided by 1862 and 1890 land-grant universities. This database is maintained by the Agricultural Research Service, Human Resources Division.

The purpose of this revision to the system of records is to change the system designation from USDA/CSREES-3 to USDA/NIFA-2; change references to the agency name to NIFA to acknowledge the reorganization; identify changes in the way records are retrieved and safeguarded; update the retention and disposal section to include Records Management Policies and Procedures; update the notification procedures, records access procedures, and contesting records procedures to direct individuals to the Freedom of Information Act Officer; modify the routine uses by adding four relating to security breaches, records management inspections, oversight operations, and access by contractors/grantees/experts/consultants/and others performing work or working on behalf of the Department; and add the following sections: Security classification, purpose, and disclosure to consumer reporting agencies.

Use of this system, as established, should not result in undue infringement of any individual's right to privacy.

The revised system of records will not be exempt from any provisions of the Privacy Act.

Proper safeguards are taken to prevent unauthorized access to the records. Authorization must be obtained from the Director, NIFA, or the Chief, MSB-HRD, ARS, before information is released. All records are accessed by unique passwords and logon procedures. Only those employees with a need-to-know in order to perform their duties are able to access the information.

Consistent with USDA's information-sharing mission, information stored in the State Cooperative Extension Service Employees system of records may be shared with other USDA components, as well as appropriate Federal, State, local, Tribal, foreign, or international government agencies. This sharing will take place only after USDA determines that the receiving component or agency has a need to know the information to carry out national security, law enforcement, immigration, intelligence, or other functions consistent with the routine uses set forth in this system of records notice.

B. National Institute of Food and Agriculture Grants Systems, USDA/NIFA-3. NIFA receives research, education, and extension grant applications each year, of which approximately a quarter are awarded. The majority of these applications are subjected to a rigorous peer-review involving technical experts (scientists, educators, farmers, engineers, and extension specialists) located worldwide. Given the highly technical nature of many of these applications, the quality of the peer-review greatly depends on the appropriate matching of the subject matter of the application with the technical expertise of the potential reviewer. NIFA maintains a database of potential reviewers. Information in the database is used to match applications with the most appropriate (potential) reviewers. Therefore, the accuracy of the database content is integral to the success of the NIFA peer review process. In addition to the reviewer information, applicant information is maintained for the proper oversight of the Federal funds and is also used to respond to inquiries from Congress, other governmental agencies, and the grantee community. The authorities for maintaining this system of records are National Agricultural Research, Extension, and Teaching Policy Act of 1977 (NARETPA), 7 U.S.C. 3318.

The purpose of this revision to the system of records is to change the system designation from USDA/CSREES-4 to USDA/NIFA-3; change the agency name to NIFA to acknowledge the reorganization; update the safeguards to include agency rules and policies; update the retention and disposal section to include Records Management Policies and Procedures; update the notification procedures, records access procedures, and contesting records procedures to direct individuals to the Freedom of Information Act Officer; modify the routine uses by adding four relating to security breaches, records management inspections, oversight operations, and the Federal Funding Accountability and Transparency Act of 2006 reflecting loans, grants, or other payments to members of the public; and add the following sections: Security classification, purpose, and disclosure to consumer reporting agencies.

Use of this system, as established, should not result in undue infringement of any individual's right to privacy.

The revised system of records will not be exempt from any provisions of the Privacy Act.

Proper safeguards are taken to prevent unauthorized access to the records. All records containing personal information are maintained in secured file cabinets or are accessed by unique passwords and logon procedures. Only those employees with a need-to-know in order to perform their duties will be able to access the information.

Consistent with USDA's information sharing mission, information stored in the National Institute of Food and Agriculture Grants Systems system of records may be shared with other USDA components, as well as appropriate Federal, State, local, Tribal, foreign, or international government agencies. This sharing will take place only after USDA determines that the receiving component or agency has a need to know the information to carry out national security, law enforcement, immigration, intelligence, or other functions consistent with the routine uses set forth in this system of records notice.

2. Two systems are being deleted as follows:

A. Current Research Information System, USDA/CSREES-1, is being deleted as the records no longer meet the requirements for a Privacy Act system of records.

B. International Programs Recruitment Roster, USDA/CSREES-2 is being deleted as the records are no longer relevant and necessary to accomplish a purpose of the Agency. The records no longer exist.

Notice is hereby given that USDA is revising two PA systems of records and deleting two PA systems of records maintained by NIFA, formerly CSREES.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and lawful permanent residents.

The Privacy Act requires each agency to publish in the Federal Register a description denoting the type and character of each system of records that the agency maintains, and the routine uses that are contained in each system in order to make agency recordkeeping practices transparent, to notify individuals regarding the uses to which their records are put, and to assist individuals to more easily find such files within the agency.

Below are descriptions of the State Cooperative Extension Service Employees, USDA/NIFA-2, and the National Institute of Food and Agriculture Grant Systems, USDA/NIFA-3.

In accordance with 5 U.S.C. 552a(r), USDA has provided a report of this system of records to the Administrator, Office of Information and Regulatory Affairs, Office of Management and Budget; Chairman, Committee on Homeland Security and Governmental Affairs, United States Senate; and Chairman, Committee on Oversight and Government Reform, U.S. House of Representatives.

Dated: April 2, 2012.
Thomas J. Vilsack,
Secretary.

System of Records Notice

USDA/NIFA-2

System name:

State Cooperative Extension Service Employees, USDA/NIFA-2.

Security classification:

None.

System location:

Records are maintained at the Department of Agriculture (USDA), Agricultural Research Service (ARS), Human Resources Division (HRD), Metropolitan Services Branch (MSB), Portals Building, 1280 Maryland Avenue SW., Washington, DC 20024.

Categories of individuals covered by the system:

Categories of individuals covered by this system include: All professional employees of the State Cooperative Extension Service from 1968 to present.

Categories of records in the system:

Categories of records in this system include: Personnel and payroll information on professional State Cooperative Extension Service employees.

Authority for maintenance of the system:

7 U.S.C. 341, et seq.

Purpose(s):

The purpose of this system is to prepare the annual salary analysis report that is used as a management tool for salary analysis purposes as well as historical purposes.

Routine uses of records maintained in the system, including categories of users and the purposes of such uses:

In addition to those disclosures generally permitted under 5 U.S.C. 552a(b) of the Privacy Act, all or a portion of the records or information contained in this system may be disclosed outside USDA as a routine use pursuant to 5 U.S.C. 552a(b)(3) as follows:

A. To the Department of Justice (DOJ), including United States Attorney Offices, or other Federal agency conducting litigation or in proceedings before any court, adjudicative or administrative body, when it is necessary to the litigation and one of the following is a party to the litigation or has an interest in such litigation:

1. USDA or any component thereof;

2. Any employee of USDA in his/her official capacity;

3. Any employee of USDA in his/her individual capacity where DOJ or USDA has agreed to represent the employee; or

4. The United States or any agency thereof, is a party to the litigation or has an interest in such litigation, and USDA determines that the records are both relevant and necessary to the litigation and the use of such records is compatible with the purpose for which USDA collected the records.

B. To a congressional office from the record of an individual in response to an inquiry from that congressional office made at the written request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. NIFA suspects or has confirmed that the security or confidentiality of information in the system of records has been compromised;

2. USDA has determined that as a result of the suspected or confirmed compromise there is a risk of harm to economic or property interests, identity theft or fraud, or harm to the security or integrity of this system or other systems or programs (whether maintained by USDA or another agency or entity) or harm to the individuals who rely upon the compromised information; and

3. The disclosure made to such agencies, entities, and persons is reasonably necessary to assist in connection with USDA's efforts to respond to the suspected or confirmed compromise and prevent, minimize, or remedy such harm.

F. To contractors and their agents, grantees, experts, consultants, and others performing or working on a contract, service, grant, cooperative agreement, or other assignment for USDA, when necessary to accomplish an agency function related to this system of records. Individuals provided information under this routine use are subject to the same Privacy Act requirements and limitations on disclosure as are applicable to USDA officers and employees.

G. To an appropriate Federal, State, Tribal, local, international, or foreign law enforcement agency or other appropriate authority charged with investigating or prosecuting a violation or enforcing or implementing a law, rule, regulation, or order, where a record, either on its face or in conjunction with other information, indicates a violation or potential violation of law, which includes criminal, civil, or regulatory violations, whether arising by general statute or particular program statute, or by regulation, rule, or order issued pursuant thereto if the information disclosed is relevant to any enforcement, regulatory, investigative, or prosecutive responsibility of the receiving entity.

Disclosure to consumer reporting agencies:

None.

Policies and practices for storing, retrieving, accessing, retaining, and disposing of records in the system:

Storage:

Records in this system are maintained in an electronic database in a secured facility.

Retrievability:

Records may be retrieved by a unique State identifying number or last name of the individual.

Safeguards:

Records in this system are safeguarded in accordance with applicable rules and policies, including all applicable USDA automated systems security and access policies. Strict controls have been imposed to minimize the risk of compromising the information that is being stored. Access to the computer system containing the records in this system is limited to those individuals who have a need to know the information for the performance of their official duties and who have appropriate clearances or permissions. Authorization must be obtained from the Director, NIFA, or the Chief, MSB-HRD, ARS, before information is released. All records are accessed by unique passwords and logon procedures.

Retention and disposal:

Records are retained under the authority of the REE Policies and Procedures contained in REE Manual 251.8 “Records Management” and 251.8M “Records Management (Manual)”, which establishes REE policies and procedures for the creation, maintenance, and disposition of records, and in accordance with the General Records Schedules issued by the National Archives and Records Administration. Records are retained indefinitely.

System manager(s) and address(es):

Personnel and Data Information Specialist, MSB, HRD, ARS, USDA, Portals Building, 1280 Maryland Avenue SW., Washington, DC 20024.

Notification procedure:

Individuals seeking notification of and access to any record contained in this system of records, or seeking to contest its content, may submit a request in writing to the Headquarters or component's Freedom of Information Act (FOIA) Officer, whose contact information can be found at http://www.dm.usda.gov/foia_agency_pocs.htm under “contacts.” If an individual believes more than one component maintains Privacy Act records concerning him or her, the individual may submit the request to the Chief FOIA Officer, Department of Agriculture, 1400 Independence Avenue SW., Washington, DC 20250.

When seeking records about yourself from this system of records or any other Departmental system of records, your request must conform with the Privacy Act regulations set forth in 6 CFR part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Chief FOIA Officer, Department of Agriculture, 1400 Independence Avenue SW., Washington, DC 20250. In addition you should provide the following:

• An explanation of why you believe the Department would have information on you;

• Identify the component(s) of the Department you believe may have the information about you;

• Specify when you believe the records would have been created;

• Any additional information that will help the FOIA staff determine which USDA component agency may have responsive records;

• If your request is seeking records pertaining to another living individual, you must include a statement from that individual certifying his/her agreement for you to access his/her records.

Without this bulleted information, the component(s) may not be able to conduct an effective search, and your request may be denied due to lack of specificity or lack of compliance with applicable regulations.

Record access procedures:

See “Notification procedure” above.

Contesting record procedures:

See “Notification procedure” above.

Record source categories:

Information in this system comes primarily from the State Cooperative Extension Service employees with additional data provided by the employees' personnel office.

Exemptions claimed for the system:

None.

System of Records Notice

USDA/NIFA-3

System name:

National Institute of Food and Agriculture Grants Systems, USDA/NIFA-3.

Security classification:

None.

System location:

Records are maintained in Program, Grants, and Funds Management offices and in a computerized system at the National Institute of Food and Agriculture (NIFA), Department of Agriculture (USDA), Waterfront Centre, 800 9th Street SW., Washington, DC 20024.

Categories of individuals covered by the system:

Categories of individuals covered by this system include: Individuals that have submitted proposals to NIFA, either individually or through an academic or other institution, and peer reviewers that evaluate NIFA applicants and their proposals.

Categories of records in the system:

Categories of records in this system include: Records of the project director, the authorized organizational representative, potential proposal reviewers, the proposal and its identifying number, supporting data from the academic institution or other applicant, proposal evaluations from peer reviewers, a review record, financial data, and other related material such as, committee or panel discussion summaries and other agency records containing or reflecting comments on the proposal or the applicants from peer reviewers.

Authority for maintenance of the system:

National Agricultural Research, Extension, and Teaching Policy Act of 1977 (NARETPA), 7 U.S.C. 3318.

Purpose(s):

NIFA receives research, education, and extension grant applications each year, of which approximately a quarter are awarded. The majority of these applications are subjected to a rigorous peer-review involving technical experts (scientists, educators, farmers, engineers, extension specialists) located world-wide. Given the highly technical nature of many of these applications, the quality of the peer-review greatly depends on the appropriate matching of the subject matter of the application with the technical expertise of the potential reviewer. NIFA maintains a database of potential reviewers. Information in the database is used to match applications with the most appropriate (potential) reviewers. Therefore, the accuracy of the database content is integral to the success of the NIFA peer review process. In addition to the reviewer information, applicant information is maintained for the proper oversight of the Federal funds and is also used to respond to inquiries from Congress, other governmental agencies, and the grantee community.

Routine uses of records maintained in the system, including categories of users and the purposes of such uses:

In addition to those disclosures generally permitted under 5 U.S.C. 552a(b) of the Privacy Act, all or a portion of the records or information contained in this system may be disclosed outside USDA as a routine use pursuant to 5 U.S.C. 552a(b)(3) as follows:

A. To the Department of Justice (DOJ), including United States Attorney Offices, or other Federal agency conducting litigation or in proceedings before any court, adjudicative or administrative body, when it is necessary to the litigation and one of the following is a party to the litigation or has an interest in such litigation:

1. USDA or any component thereof;

2. Any employee of USDA in his/her official capacity;

3. Any employee of USDA in his/her individual capacity where DOJ or USDA has agreed to represent the employee; or

4. The United States or any agency thereof, is a party to the litigation or has an interest in such litigation, and USDA determines that the records are both relevant and necessary to the litigation and the use of such records is compatible with the purpose for which USDA collected the records.

B. To a congressional office from the record of an individual in response to an inquiry from that congressional office made at the written request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. NIFA suspects or has confirmed that the security or confidentiality of information in the system of records has been compromised;

2. USDA has determined that as a result of the suspected or confirmed compromise there is a risk of harm to economic or property interests, identity theft or fraud, or harm to the security or integrity of this system or other systems or programs (whether maintained by USDA or another agency or entity) or harm to the individual that rely upon the compromised information; and

3. The disclosure made to such agencies, entities, and persons is reasonably necessary to assist in connection with USDA's efforts to respond to the suspected or confirmed compromise and prevent, minimize, or remedy such harm.

F. To contractors and their agents, grantees, experts, consultants, and others performing or working on a contract, service, grant, cooperative agreement, or other assignment for USDA, when necessary to accomplish an agency function related to this system of records. Individuals provided information under this routine use are subject to the same Privacy Act requirements and limitations on disclosure as are applicable to USDA officers and employees.

G. To an appropriate Federal, State, Tribal, local, international, or foreign law enforcement agency or other appropriate authority charged with investigating or prosecuting a violation or enforcing or implementing a law, rule, regulation, or order, where a record, either on its face or in conjunction with other information, indicates a violation or potential violation of law, which includes criminal, civil, or regulatory violations, whether arising by general statute or particular program statute, or by regulation, rule or order issued pursuant thereto if the information disclosed is relevant to any enforcement, regulatory, investigative, or prosecutive responsibility of the receiving entity.

H. USDA will disclose information about individuals from this system of records in accordance with the Federal Funding Accountability and Transparency Act of 2006 (Pub. L. No. 109-282; codified at 31 U.S.C. 6101, et seq.); section 204 of the E-Government Act of 2002 (Pub. L. 107-347; 44 U.S.C. 3501 note), and the Office of Federal Procurement Policy Act (41 U.S.C. 403 et seq.), or similar statutes requiring agencies to make available publicly information concerning Federal financial assistance, including grants, subgrants, loan awards, cooperative agreements and other financial assistance; and contracts, subcontracts, purchase orders, task orders, and delivery orders.

I. To other Federal agencies needing names of potential reviewers or specialists in particular fields.

J. To other Federal agencies as part of the Presidential Management Initiative, E-Grants.

Disclosure to consumer reporting agencies:

None.

Policies and practices for storing, retrieving, accessing, retaining, and disposing of records in the system:

Storage:

Records are maintained on system file servers and paper files in the program offices at NIFA, USDA, Waterfront Centre, 800 9th Street SW., Washington, DC 20024.

Retrievability:

Records can be retrieved by name, project leader, co-investigator, and any other data field such as institution or title.

Safeguards:

Records in this system are safeguarded in accordance with applicable rules and policies, including all applicable USDA automated systems security and access policies. Strict controls have been imposed to minimize the risk of compromising the information that is being stored. Access to the computer system containing the records in this system is limited to those individuals who have a need to know the information for the performance of their official duties and who have appropriate clearances or permissions. All records containing personal information are maintained in secured file cabinets or are accessed by unique passwords and logon procedures. Only those employees with a need-to-know in order to perform their duties will be able to access the information.

Retention and disposal:

Records are retained under the authority of the REE Policies and Procedures contained in REE Manual 251.8 “Records Management” and 251.8M “Records Management (Manual)”, which establishes REE policies and procedures for the creation, maintenance, and disposition of records, and in accordance with the General Records Schedules issued by the National Archives and Records Administration. The Data File is cumulative and is maintained indefinitely, and documents are disposed according to agency file plan and disposition schedule. Non-funded proposals are maintained onsite for 1 year and then disposed after 3 years. Funded proposals are maintained onsite for 1 year after completion of the award, and then transferred to the National Archive and Records Administration.

System manager(s) and address(es):

Deputy Administrator, Office of Information Technology (OIT), NIFA, USDA, Stop 2216, 1400 Independence Avenue SW., Washington, DC 20250-2216. The address for express mail or overnight courier service is: Deputy Administrator, OIT, NIFA, USDA, Waterfront Centre, 800 9th Street SW., Washington, DC 20024.

Notification procedure:

Individuals seeking notification of and access to any record contained in this system of records, or seeking to contest its content, may submit a request in writing to the Headquarters or component's Freedom of Information Act (FOIA) Officer, whose contact information can be found at http://www.dm.usda.gov/foia_agency_pocs.htm under “contacts.” If an individual believes more than one component maintains Privacy Act records concerning him or her, the individual may submit the request to the Chief FOIA Officer, Department of Agriculture, 1400 Independence Avenue SW., Washington, DC 20250.

When seeking records about yourself from this system of records or any other Departmental system of records your request must conform with the Privacy Act regulations set forth in 6 CFR Part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Chief FOIA Officer, Department of Agriculture, 1400 Independence Avenue SW., Washington, DC 20250. In addition you should provide the following:

• An explanation of why you believe the Department would have information on you;

• Identify the component(s) of the Department you believe may have the information about you;

• Specify when you believe the records would have been created;

• Any additional information that will help the FOIA staff determine which USDA component agency may have responsive records;

• If your request is seeking records pertaining to another living individual, you must include a statement from that individual certifying his/her agreement for you to access his/her records.

Without this bulleted information the component(s) may not be able to conduct an effective search, and your request may be denied due to lack of specificity or lack of compliance with applicable regulations.

Record access procedures:

See “Notification procedure” above.

Contesting record procedures:

See “Notification procedure” above.

Record source categories:

Information in this system is obtained from the individuals submitting the proposals and from peer reviewers.

Exemptions claimed for the system:

None.

[FR Doc. 2012-10015 Filed 4-25-12; 8:45 am]

BILLING CODE 3410-22-P